FEDERAL EMERGENCY MANAGEMENT AGENCY

44 CFR Part 67

[Docket No. FEMA-D-7510]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Hazard Mapping Division, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Acting Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778 Civil Justice Reform

This proposed rule meets the applicable standards of section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. * Elevation in feet (NGVD): Existing | #Depth in feet above ground. * Elevation in feet (NGVD): Modified
Connecticut | Newington Town Hartford County | Mill Brook | At the confluence with Piper Brook | *53 | *50
|  |  | Approximately 380 feet upstream of dam with footbridge | *75 | *74
|  | Schoolhouse Brook | Approximately 0.3 mile downstream of Wilson Avenue | *75 | *74
|  |  | At Robbins Avenue | *80 | *81
|  | Piper Brook | At the downstream corporate limits | *53 | *49
|  |  | Approximately 350 feet upstream of confluence of Bass Brook | *80 | *79
|  | Rock Hole Brook | Approximately 340 feet downstream of Stonehedge Drive | *50 | *51
|  |  | Approximately 380 feet upstream of Willard Avenue | None | *89
| Webster Brook | Approximately 0.54 mile downstream of Kelsey Street | *45 | *48
|  |  | Approximately 0.52 mile upstream of railroad embankment | None | *74
|  | Webster Brook Tributary | At the confluence with Webster Brook | None | *68
|  |  | Approximately 1,300 feet upstream of Liberty Street | None | *71
|  | Bass Brook | At confluence with Piper Brook | *80 | *79
|  |  | Approximately 100 feet upstream of Route 9 | None | *100
Maps available for inspection at the Newington Town Hall, 131 Cedar Street, Newington, Connecticut.
Send comments to The Honorable Robert A. Randich, Mayor of the Town of Newington, Newington Town Hall, 131 Cedar Street, Newington, Connecticut 06111.
Georgia | Morgan County (Unincorporated Areas) | Apalachee River | Approximately 2.98 miles downstream of State Route 186 | None | *574
|  |  | Just downstream of State Route 186 | None | *673
Maps available for inspection at the Morgan County Building Inspector's Office, 384 Hancock Street, Madison, Georgia.
Send comments to Mr. William Michael Nabors, Chairman of the Morgan County Board of Commissioners, P.O. Box 168, Madison, Georgia 30650.
Illinois | Champaign County (Unincorporated Areas) | Sangamon River | Approximately 1,000 feet downstream from the Township Road 2000 North (Shively) bridge | None | *676
|  |  | At Lake of the Woods covered bridge | None | *689
Maps available for inspection at the Champaign County Department of Planning and Zoning, Brookens Administrative Center, 1776 East Washington Street, Urbana, Illinois.
Send comments to Ms. Patricia Avary, Chairman of the Champaign County Board, Brookens Administrative Center, 1776 East Washington Street, Urbana, Illinois 61802.
Illinois | Mahomet (Village), Champaign County | Sangamon River | Approximately 800 feet downstream of downstream corporate limits | None | *677
|  |  | Approximately 1,800 feet downstream of upstream corporate limits | None | *689
Maps available for inspection at the Mahomet Village Hall, 503 East Main Street, Mahomet, Illinois.
Send comments to The Honorable Jeff Courson, Mayor of the Village of Mahomet, 503 East Main Street, P.O. Box 259, Mahomet, Illinois 61853.
Indiana | Cicero (Town), Hamilton County | Morse Reservoir | Entire shoreline within community | *813 | *814
Maps available for inspection at the Cicero Town Hall, 70 North Byron Street, Cicero, Indiana.
Send comments to Mr. Bruce Freeman, President of the Cicero Town Council, 150 West Jackson, Cicero, Indiana 46034.
Indiana | Fishers (Town), Hamilton County | Mud Creek | At East 96th Street | *780 | *781
|  |  | At East 126th Street | *812 | *815
|  | Sand Creek | At East 106th Street | *784 | *785
|  |  | At Interstate 69 | *803 | *806
|  | West Fork White River | Approximately 1.2 miles downstream of confluence of Britton Branch | None | *745
|  |  | Approximately 0.8 mile upstream of confluence of Britton Branch | None | *748
|  | Britton Branch | At confluence with West Fork White River | None | *746
|  |  | Approximately 100 feet downstream of State Route 37 | None | *809
Maps available for inspection at the Town of Fishers Administrative Offices, One Municipal Drive, Fishers, Indiana.
Send comments to Mr. Michael Booth, Fishers Town Manager, One Municipal Drive, Fishers, Indiana 46038.
Indiana | Hamilton County (Unincorporated downstream Areas) | Mud Creek | Approximately 180 feet downstream of East 146th Street | None | *831
|  |  | At Atlantic Road | None | *845
|  | Sand Creek | At East 146th Street | None | *821
|  |  | At Praire Baptist Road | None | *840
|  | Musselman Ditch | Approximately 1,400 feet upstream of Promise Road | None | *780
|  |  | Approximately 0.5 mile upstream of Victory Chapel Road | None | *795
|  | Kirkendall Creek | At East 146th Street | None | *770
|  |  | At Hinkle Road | None | *821
|  | Vestal Ditch | At East 146th Street | None | *769
|  |  | Approximately 1,600 feet downstream of East 161st Street | None | *775
Maps available for inspection at the Hamilton County Government and Judicial Center, One Hamilton County Square, Noblesville, Indiana.
Send comments to Mr. Charles Kiphart, Director of the Hamilton County Planning Commission, One Hamilton County Square, Suite 146, Noblesville, Indiana 46060.
Indiana | Noblesville (City), Hamilton County | Britton Branch | Just upstream of Allisonville Road | None | *751
|  |  | Justdownstream of Norfolk and Western Railroad | None | *800
|  | Elmwood-Wilson Ditch | At confluence with Stony Creek | None | *756
|  |  | Approximately 500 feet downstream of State Route 37 | None | *768
|  | Kirkendall Creek | Just upstream of abandoned railroad | None | *785
|  |  | Just downstream of East 156th Street | None | *793
|  | Mallery Granger Ditch | At confluence with West Fork White River | None | *765
|  |  | Approximately 800 feet downstream of East 211th Street | None | *805
|  | Mill Creek | At confluence with Sly Run | None | *767
|  |  | Approximately 600 feet upstream of Little Chicago River | None | *819
|  | Morse Reservoir | Entire shoreline within community | None | *814
|  | Musselman Ditch | At confluence with West Fork White River | None | *771
|  |  | Approximately 1,400 feet upstream of Promise Road | None | *780
|  | Sly Run | At confluence with Cicero Creek | None | *762
|  |  | At confluence of Sly Run East Fork and Sly Run West Fork | None | *821
|  | Vestal Ditch | Approximately 200 feet downstream of abandoned railroad | None | *772
|  |  | Just downstream of East 161st Street | None | *776
|  | Sly Run East Fork | At confluence of Sly Run West Fork | None | *821
|  |  | Just downstream of Hinkle Road | None | *865
|  | Sly Run West Fork | At confluence of Sly Run East Fork | None | *821
|  |  | Approximately 125 feet upstream of Little Chicago Road | None | *830
Maps available for inspection at the City of Noblesville Department of Planning and Development, 16 South Tenth Street, Noblesville, Indiana.
Send comments to The Honorable Dennis Redick, Mayor of the City of Noblesville, 16 South Tenth Street, Noblesville, Indiana 46060.
Indiana | Westfield (Town), Hamilton County | Cool Creek | Just upstream of East 146th Street | *817 | *818
|  |  | Just downstream of East 186th Street | None | *870
|  | Grassy Branch | Approximately 600 feet downstream of Westfield Park Road | None | *894
|  |  | Approximately 0.57 mile upstream of State Route 32 | None | *906
|  | Kirdendall Creek | Just upstream of Hinkle Road | None | *822
|  |  | Just downstream of East 161st Street | None | *832
|  | Little Eagle Creek | Approximately 1,250 feet downstream of West 146th Street | None | *865
|  |  | Just downstream of Casey Road | None | *977
|  | North Cool Creek | Just upstream of East 186th Street | None | *870
|  |  | Just downstream of intersection of Tomlinson Road and East 191st Street | None | *892
|  | Sly Run East Fork | Just upstream of Hinkle Road | None | *866
|  |  | Approximately 0.4 mile upstream of Hinkle Road | None | *872
Maps available for inspection at the Westfield Town Hall, 130 Penn Street, Westfield, Indiana.
Send comments to Mr. Michael McDonald, Westfield Town Council President, 130 Penn Street, Westfield, Indiana 46074.
Maine | Bangor (City), Penobscot County | Penobscot River | At downstream corporate limits At upstream corporate limits | *15 *31 | *16 *25
|  | Penjajawoc Stream | At Mount Hope Avenue | *44 | *45
|  |  | Approximately 0.35 mile upstream of Stillwater Avenue | *108 | *107
|  | Kenduskeag | At confluence with Penobscot River | *17 | *18
|  | Stream | Approximately 0.64 mile upstream of confluence with Penobscot River | *17 | *18
Maps available for inspection at the Bangor City Hall, 73 Harlow Street, Bangor, Maine.
Send comments to Mr. Edward Barrett, Bangor City Manager, 73 Harlow Street, Bangor, Maine 04401.
New Jersey | Summit (City), Union County | Passaic River | Approximately 200 feet upstream of Old Highway 24/corporate limits | *181 | *180
|  |  | Approximately 0.62 mile (3,250 feet) upstream of Stanley Avenue | *206 | *207
Maps available for inspection at the Summit City Hall, 512 Springfield Avenue, Summit, New Jersey.
Send comments to The Honorable Walter D. Long, Mayor of the City of Summit, Municipal Building, 512 Springfield Avenue, Summit, New Jersey 07901-1702.
New York | Davenport (Town), Delaware County | Charlotte Creek | At the confluence with the Susquehanna River | None | *1,101
|  |  | At upstream of corporate limits | None | *1,327
Maps available for inspection at the Davenport Town Hall, Route 23, Davenport Center, New York 13751.
Send comments to Mr. Tod Rider, Town of Davenport Supervisor, P.O. Box 88, Davenport Center, New York 13571.
New York | Evans (Town), Erie County | Reisch Creek | At the confluence with Lake Erie A point approximately 180 feet upstream of Revere Drive | *579 *683 | *580 *681
|  | Lake Erie | Southwest corporate limits along Lake Erie | *579 | *580
|  |  | Northeast corporate limits along Lake Erie | *580 | *581
Maps available for inspection at the Evans Town Hall, 8787 Erie Road, Angola, New York 14006-9600.
Send comments to Mr. Robert R. Catalino II, Evans Town Supervisor, Evans Town Hall, 8787 Erie Road, Angola, New York 14006-9600.
New York | Kiryas Joel (Village), Orange County | Coronet Brook | At the confluence with Tributary No. 25 | None | *612
|  |  | Approximately 340 feet upstream of Israel Zupnik Drive | None | *649
|  | Forest Brook | At the confluence with Tributary No. 25 | None | *604
|  |  | Approximately 0.45 mile upstream of Schunnemunk Road | None | *760
|  | Highland Brook | At the confluence with Tributary No. 25 | None | *609
|  |  | Approximately 1,470 feet upstream of Bakertown Road | None | *654
|  | Palm Brook | Approximately 980 feet downstream of Koznits Road | None | *677
|  |  | Approximately 0.4 mile upstream of an Access Road | None | *833
|  | Tributary No. 25 | Approximately 600 feet downstream of the confluence of Forest Brook | None | *601
|  |  | Approximately 200 feet upstream of Krolla Drive | None | *734
Maps available for inspection at the Kiryas Joel Village Hall, 51 Forest Road, Monroe, New York.
Send comments to The Honorable Abraham Weider, Mayor of the Village of Kiryas Joel, P.O. Box 566, 51 Forest Road, Monroe, New York 10950.
New York | Leray (Town), Jefferson County | Indian River | Approximately 0.43 mile downstream of Joachim Road | None | *406
|  |  | Approximately 1.48 miles upstream of Elm Ridge Road | None | *413
|  | West Creek | At its confluence with Indian River | None | *410
|  |  | Approximately 1.07 miles upstream of the confluence with Indian River | None | *410
Maps available for inspection at the Leray Town Hall, 8433 Willow Street, Evans Mills, New York 13637.
Send comments to Mr. Ronald Taylor, Leray Town Supervisor, 8433 Willow Street, Evans Mills, New York 13637.
Ohio | Willoughby Hills (City), Lake County | Euclid Creek North Tributary | Approximately 2,800 feet downstream of Bishop Road | None | *827
|  |  | Approximately 4,020 feet upstream of Lamplight Lane | None | *873
|  | Euclid Creek South Tributary | At confluence with Euclid Creek North Tributary | None | *832
|  |  | Approximately 1.1 miles upstream of Bishop Road | None | *877
Maps available for inspection at the Willoughby Hills City Hall, 35405 Chardon Road, Willoughby Hills, Ohio.
Send comments to The Honorable Mort O'Ryan, Mayor of the City of Willoughby Hills, 35405 Chardon Road, Willoughby Hills, Ohio 44094.
Tennessee | Adamsville (Town), McNairy County | Beason Creek | Approximately 725 feet downstream of the corporate limits | None | *452
|  |  | Approximately 25 feet upstream of Lynn Street | None | *494
|  | Beason Creek Tributary | At the confluence with Beason Creek | None | *468
|  |  | Approximately 100 feet upstream of South Oak Street | None | *505
|  | Snake Creek | Approximately 1,440 feet downstream of State Route 22 | None | *402
|  |  | Approximately 600 feet upstream of State Route 22 | None | *402
Maps available for inspection at the Adamsville City Hall, 231 East Main Street, Adamsville, Tennessee.
Send comments to The Honorable Paul Wallace Plunk, Mayor of the Town of Adamsville, P.O. Box 301, Adamsville, Tennessee 38310.
Vermont | Hardwick (Town and Village), Caledonia County | Lamoille River | Approximately 50 feet downstream of State Route 15W | *796 | *794
|  |  | Approximately 175 feet upstream of North Main Street | *830 | *829
|  | Cooper Brook | At confluence with Lamoille River | *812 | *807
|  |  | Approximately 785 feet upstream of Elm Street | *815 | *814
Maps available for inspection at the Hardwick Town Hall, 20 Church Street, Hardwick, Vermont.
Send comments to Mr. Daniel P. Hill, Hardwick Town/Village Manager, P.O. Box 523, 20 Church Street, Hardwick, Vermont 05843.
Vermont | Stowe (Town), Lamoille County | West Branch Little River | At confluence Little River | *709 | *705
|  |  | Approximately 100 feet upstream of State Route 108 | None | *960
|  | Little River | Approximately 630 feet upstream of Canoe Factory Dam | *687 | *688
|  |  | At confluence of East Branch Little River | *709 | *705
|  | East Branch Little River | At confluence with Little Little River | *709 | *705
|  |  | Approximately 400 feet upstream of Cemetery Road | *709 | *708
Maps available for inspection at the Stowe Town Hall, 67 Main Street,Stowe, Vermont.
Send comments to Mr. Richard Marron, Chairman of the Town of Stowe Board of Selectmen, P.O. Box 730, Stowe, Vermont 05672.
Vermont | Woodstock (Town Village), Windsor County | Ottauquechee River | Approximately 550 feet upstream of U.S. Route 4 | *696 | *697
|  |  | At the upstream corporate limits | *816 | *812
Maps available for inspection at the Town Hall, 31 The Green, Woodstock, Vermont.
Send comments to Mr. John Doten, Chairman of the Board of Selectmen, Town Hall, P.O. Box 488, Woodstock, Vermont 05091.
Virginia | Berryville (Town), Clarke County | Town Run | Approximately 1,220 feet downstream of Springsbury Road (State Route 613) | None | *553
|  |  | Approximately 80 feet upstream of Lincoln Avenue | None | *599
Maps available for inspection at Town of Berryville Office, 23 East Main Street, Berryville, Virginia.
Send comments to Mr. Keith Dalton, Town of Berryville Manager, 23 East Main Street, Berryville, Virginia 22611.

(Catalog of Federal Domestic Assistance No. 83.100, “Flood Insurance.”)

Dated: July 18, 2001.
Robert F. Shea,
Acting Administrator, Federal Insurance and Mitigation Administration.

[FR Doc. 01-18739 Filed 7-26-01; 8:45 am]

BILLING CODE 6718-04-P